DEPARTMENT OF ENERGY

Federal Energy Regulatory Commission

[Docket No. CP15-18-000]

Eastern Shore Natural Gas Company; Supplemental Notice of Intent To Prepare an Environmental Assessment for the Proposed White Oak Mainline Expansion Project and Request for Comments on Environmental Issues

On January 22, 2015, the Federal Energy Regulatory Commission (FERC or Commission) issued in Docket No. CP15-18-000 a Notice of Intent to Prepare an Environmental Assessment for the Proposed White Oak Mainline Expansion Project and Request for Comments on Environmental Issues (NOI). Since its application in the above-referenced docket, FERC staff has requested information regarding the proposed facilities, as well as alternative routes to the proposed Kemblesville Loop ¹ in Chester County, Pennsylvania. On June 2, 2015, FERC staff also conducted an onsite environmental review of the proposed pipeline and several alternative routes. In response to data requested by FERC staff, Eastern Shore Natural Gas Company (Eastern Shore) provided information on four alternative pipeline routes. FERC staff is further evaluating Alternative Route 2 as described in Eastern Shore's April 21, 2015 response. This Supplemental Notice is being issued to seek comments on Alternative Route 2 and opens a new scoping period for interested parties to file comments on environmental issues specific to this alternative route.

¹ A pipeline loop is constructed parallel to an existing pipeline to increase capacity.

The January 22, 2015 NOI announced that the FERC staff will prepare an environmental assessment (EA) to address the environmental impacts of the White Oak Mainline Expansion Project (Project). Please refer to the NOI for more information about the overall facilities proposed by Eastern Shore in Pennsylvania and Delaware, and FERC staff's EA process. The Commission will use the EA in its decision-making process to determine whether the Project is in the public convenience and necessity.

The Commission previously solicited public input on the Project in the beginning of 2015. We ² are now specifically seeking comments on the Kemblesville Loop Alternative Route 2 to help the Commission staff evaluate the environmental impact associated with the alternative and how that compares to the currently proposed route. Please note that this special scoping period will close on August 8, 2015.

² “We,” “us,” and “our” refer to the environmental staff of the Commission's Office of Energy Projects.

This Supplemental Notice is being sent to the Commission's current environmental mailing list for this Project, including new landowners that would be affected by the alternative pipeline route.

If you are a landowner receiving this notice, a pipeline company representative may contact you about the acquisition of an easement to construct, operate, and maintain the proposed facilities. The company would seek to negotiate a mutually acceptable agreement. However, if the Commission approves the Project, that approval conveys with it the right of eminent domain. Therefore, if the easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically asked questions, including the use of eminent domain and how to participate in the Commission's proceedings.

Public Participation

For your convenience, there are three methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Summary of Kemblesville Loop Alternative Route 2

The Kemblesville Loop Alternative Route 2 would be collocated entirely with the existing right-of-way for Eastern Shore's White Oak mainline pipeline and existing loop. This alternative route would involve construction in residential areas as the surrounding area has been developed into several residential subdivisions since installation of the original mainline pipeline. The Kemblesville Loop Alternative Route 2 would be about 2.1 miles in length and would use previously disturbed land and two existing crossing locations of the White Clay Creek National Wild and Scenic River, administered by the U.S. Department of Interior's National Park Service, using a flume and/or dam and pump crossing method. In comparison, the currently proposed 3.9-mile-long route would follow existing rights-of-way for 41.9 percent of the route and would include two horizontal directional drill crossings of tributaries of the White Clay Creek National Wild and Scenic River.

An overview map of the Kemblesville Loop Alternative Route 2 that follows the existing Eastern Shore pipeline right-of-way and the currently proposed route is included in Appendix 1.³

³ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Currently Identified Environmental Issues

We have identified several issues that we think deserve attention for our comparison of the proposed route and the Kemblesville Loop Alternative Route 2 based on a review of the proposed facilities and the environmental information provided by Eastern Shore. This preliminary list of issues may be changed based on your comments and our analysis.

• crossings of the White Clay Creek National Wild and Scenic River;

• old growth forested areas along the pipeline routes; and

• noxious weeds.

Environmental Mailing List

The environmental mailing list includes federal, state, and local government representatives and agencies; elected officials; environmental and public interest groups; Native American Tribes; other interested parties; commenters; and local libraries and newspapers. This list also includes landowners affected by the pipelines as currently proposed, as well as landowners that may be affected by the Kemblesville Loop Alternative Route 2. We will update the environmental mailing list as the analysis proceeds to ensure that we send the information related to this environmental review to all individuals, organizations, and government entities interested in and/or potentially affected by the proposed Project.

Copies of the completed EA will be sent to the environmental mailing list for public review and comment. If you would prefer to receive a paper copy of the document instead of a CD version or would like to remove your name from the mailing list, please return the attached Information Request (Appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the Project is available from the Commission's Office of External Affairs, at (866) 208-FERC, or on the FERC Web site (www.ferc.gov) using the eLibrary link. Click on the eLibrary link, click on “General Search” and enter the docket number, excluding the last three digits in the Docket Number field (i.e., CP15-18). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: July 9, 2015.
Kimberly D. Bose,
Secretary.

[FR Doc. 2015-17805 Filed 7-20-15; 8:45 am]

BILLING CODE 6717-01-P